CORPORATION FOR NATIONAL AND COMMUNITY SERVICE

Agency Information Collection Activities; Submission to the Office of Management and Budget for Review and Approval; Comment Request; Disaster Response Cooperative Agreements

AGENCY: Corporation for National and Community Service.

ACTION: Notice of information collection; request for comment.

SUMMARY: The Corporation for National and Community Service, operating as AmeriCorps, has submitted a public information collection request (ICR) entitled Disaster Response Cooperative Agreements for review and approval in accordance with the Paperwork Reduction Act.

DATES: Written comments must be submitted to the individual and office listed in the ADDRESSES section by April 29, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Rita Pratte, 202-815-5719, or by email at rpratte@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 30, 2023 at 88 FR 83536. The comment period ended January 29, 2024. No public comments were received from this Notice.

Title of Collection: Disaster Response Cooperative Agreements.

OMB Control Number: 3045-0133. Type of Review: Revision.

Respondents/Affected Public: Businesses and Organizations.

Total Estimated Number of Annual Responses: 500.

Total Estimated Number of Annual Burden Hours: 500.

Abstract: AmeriCorps seeks renewal of the current information collection. AmeriCorps uses the information collected through Disaster Response Cooperative Agreements (DCRAs) to more effectively use its deployable resources to meet the needs of disaster-affected communities. An understanding of the participating programs allows AmeriCorps to match the capabilities of the programs to the needs of the communities and will allow better asset mapping and resource typing. This information collection helps AmeriCorps identify and deploy programs effectively and efficiently, and ensures interested programs meet the appropriate programmatic and fiscal requirements to successfully execute disaster response activities. Additionally, the collected information will allow AmeriCorps to conduct better outreach to interested programs by providing them with more information about the agency's disaster procedures, reimbursement requirements, and support services offered. The forms under the DRCA help the agency efficiently collect information during a disaster event as well as assess the capacity of all DRCA programs throughout the year. Forms are completed electronically and emailed to AmeriCorps. A revision to this information collection is requested to include a new reporting form for non-mission assignment disaster response. The current application is due to expire on March 31, 2024.

Alexander Garcia,
Deputy Director, AmeriCorps NCCC.

[FR Doc. 2024-06608 Filed 3-27-24; 8:45 am]

BILLING CODE 6050-28-P